DEPARTMENT OF COMMERCE

National Institute of Standards and Technology

Malcolm Baldrige in National Quality Award Board of Overseers

AGENCY: National Institute of Standards and Technology, Department of Commerce.

ACTION: Notice of public meeting.

SUMMARY: Pursuant to the Federal Advisory Committee Act, 5 U.S.C. app. 2, notice is hereby given that there will be a meeting of the Board of Overseers of the Malcolm Baldrige National Quality Award on Monday, December 4, 2000. The Board of Overseers is composed of eleven members prominent in the field of quality management and appointed by the Secretary of Commerce, assembled to advise the Secretary of Commerce on the conduct of the Baldrige Award. The purpose of this meeting is to discuss and review information received from the National Institute of Standards and Technology with the members of the Judges Panel of the Malcolm Baldrige National Quality Award. The agenda will include: Overview of the 2000 Baldrige Cycle, Report from the Judges' Panel, Program Status and Plans for 2001, Discussion of International Quality Award Meeting, Discussion of Plans/Issues and Development of Recommendations.

DATES: The meeting will convene December 4, 2000, at 8:30 a.m. and adjourn at 3:30 p.m. on December 4, 2000.

ADDRESSES: The meeting will be held at the National Institute of Standards and Technology, Chemistry Building, Red Room, Gaithersburg, Maryland 20899.

FOR FURTHER INFORMATION CONTACT: Dr. Harry Hertz, Director, National Quality Program, National Institute of Standards and Technology, Gaithersburg, Maryland 20899, telephone number (301) 975-2361.

Dated: November 15, 2000.
Karen H. Brown,
Deputy Director.

[FR Doc. 00-29666 Filed 11-20-00; 8:45 am]

BILLING CODE 3510-13-M